DEPARTMENT OF ENERGY

Federal Energy Regulatory Commission

Combined Notice of Filings

Take notice that the Commission has received the following Natural Gas Pipeline Rate and Refund Report filings:

Filings Instituting Proceedings

Docket Numbers: RP14-862-000.

Applicants: Southeast Supply Header, LLC.

Description: Negotiated Rate Cleanup to be effective 6/13/2014.

Filed Date: 5/12/14.

Accession Number: 20140512-5068.

Comments Due: 5 p.m. ET 5/27/14.

Docket Numbers: RP14-864-000.

Applicants: Columbia Gulf Transmission, LLC.

Description: Order to Show Cause Compliance Filing to be effective 5/20/2014.

Filed Date: 5/12/14.

Accession Number: 20140512-5085.

Comments Due: 5 p.m. ET 5/27/14.

Docket Numbers: RP14-865-000.

Applicants: Hardy Storage Company, LLC.

Description: Order to Show Cause Compliance Filing to be effective 5/20/2014.

Filed Date: 5/12/14.

Accession Number: 20140512-5087.

Comments Due: 5 p.m. ET 5/27/14.

Docket Numbers: RP14-866-000.

Applicants: Crossroads Pipeline Company.

Description: Order to Show Cause Compliance Filing to be effective 5/20/2014.

Filed Date: 5/12/14.

Accession Number: 20140512-5088.

Comments Due: 5 p.m. ET 5/27/14.

Docket Numbers: RP14-867-000.

Applicants: Central Kentucky Transmission Company.

Description: Order to Show Cause Compliance Filing to be effective 5/20/2014.

Filed Date: 5/12/14.

Accession Number: 20140512-5089.

Comments Due: 5 p.m. ET 5/27/14.

Docket Numbers: RP14-868-000.

Applicants: Southern Star Central Gas Pipeline, Inc.

Description: Show Cause Order Compliance Filing—Posting of Offers to Purchase Capacity to be effective N/A.

Filed Date: 5/12/14.

Accession Number: 20140512-5228.

Comments Due: 5 p.m. ET 5/27/14.

Docket Numbers: RP14-872-000.

Applicants: Granite State Gas Transmission, Inc.

Description: Change to General Terms and Conditions—Capacity Release to be effective 7/1/2014.

Filed Date: 5/14/14.

Accession Number: 20140514-5019.

Comments Due: 5 p.m. ET 5/27/14.

Docket Numbers: RP14-873-000.

Applicants: Panhandle Eastern Pipe Line Company, LP.

Description: Order to Show Clause Compliance Filing to be effective 7/1/2014.

Filed Date: 5/14/14.

Accession Number: 20140514-5034.

Comments Due: 5 p.m. ET 5/27/14.

Docket Numbers: RP14-874-000.

Applicants: Trunkline Gas Company, LLC.

Description: Order to Show Cause Compliance Filing to be effective 7/1/2014.

Filed Date: 5/14/14.

Accession Number: 20140514-5035.

Comments Due: 5 p.m. ET 5/27/14.

Docket Numbers: RP14-875-000.

Applicants: Florida Gas Transmission Company, LLC.

Description: Order to Show Clause Compliance Filing to be effective 7/1/2014.

Filed Date: 5/14/14.

Accession Number: 20140514-5036.

Comments Due: 5 p.m. ET 5/27/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-772-001.

Applicants: Millennium Pipeline Company, LLC.

Description: Negotiated Rate Svc Agmts—SW Amendment to be effective 5/1/2014.

Filed Date: 5/13/14.

Accession Number: 20140513-5145.

Comments Due: 5 p.m. ET 5/27/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: Wednesday, May 14, 2014.
Nathaniel J. Davis, Sr.,
Deputy Secretary.

[FR Doc. 2014-11937 Filed 5-22-14; 8:45 am]

BILLING CODE 6717-01-P